OFFICE OF THE UNITED STATES TRADE REPRESENTATIVE

Notice of Meeting of the Committee of Chairs of the Industry Trade Advisory Committees (ITACs)

AGENCY: Office of the United States Trade Representative.

ACTION: Notice of a partially opened meeting.

SUMMARY: The Committee of Chairs of the Industry Trade Advisory Committees (ITACs) will hold a meeting on Tuesday, October 12, 2010, from 9:30 a.m. to 12:15 p.m. The meeting will be closed to the public from 9:30 a.m. to 11:15 a.m. and opened to the public from 11:30 a.m. to 12:15 p.m.

DATES: The meeting is scheduled for October 12, 2010, unless otherwise notified.

ADDRESSES: The meeting will be held at the U.S. Department of Commerce, Room 4830, located at 14th Street and Constitution Avenue, NW., Washington, DC 20230.

FOR FURTHER INFORMATION CONTACT: Ingrid Mitchem, Designated Federal Officer for ITAC Committee of Chairs, (202) 482-3268, Department of Commerce, 14th Street and Constitution Avenue, NW., Washington, DC 20230.

SUPPLEMENTARY INFORMATION: The Agenda for the open portion of the meeting will be a Discussion and Deliberation on the Draft Report of the ITAC Committee of Chairs on the Appropriate Scope of Viewpoints to be Represented on the Industry Trade Advisory Committees (ITACs). The Agenda for the closed portion of the meeting will be the Trade Policy Agenda, including discussion of ongoing negotiations and trade strategies.

Myesha Ward,
Assistant U.S. Trade Representative for Intergovernmental Affairs and Public Engagement.

[FR Doc. 2010-23587 Filed 9-21-10; 8:45 am]

BILLING CODE 3190-W0-P